NUCLEAR REGULATORY COMMISSION

Licensing Support System Advisory Review Panel; Notice of Amendment of Charter

AGENCY: Nuclear Regulatory Commission.

ACTION: Notice of amendment of the Charter of the Advisory committee on the medical uses of isotopes.

SUMMARY: The ACMUI provides advice to the NRC on policy and technical issues that arise in regulating the medical use of byproduct material for diagnosis and therapy. Responsibilities include providing guidance and comments on current and proposed NRC regulations and regulatory guidance concerning medical use; evaluating certain non-routine uses of byproduct material for medical use; and evaluating training and experience of proposed authorized users. The members are involved in preliminary discussions of major issues in determining the need for changes in NRC policy and regulation to ensure the continued safe use of byproduct material. Each member provides technical assistance in his/her specific area(s) of expertise, particularly with respect to emerging technologies. Members also provide guidance as to NRC's role in relation to the responsibilities of other Federal agencies as well as of various professional organizations and boards.

Members of this Committee have demonstrated professional qualifications and expertise in both scientific and non-scientific disciplines including nuclear medicine; nuclear cardiology; radiation therapy; medical physics; radiopharmacy; State medical regulation; patient's rights and care; health care administration; medical research; medical dosimetry, and Food and Drug Administration regulation.

The Nuclear Regulatory Commission has decided to amend the ACMUI charter to allow it to provide consultation services when requested by the Director, Division of Industrial and Medical Nuclear Safety, Office of Nuclear Material Safety and Safeguards. This action is being taken in accordance with the Federal Advisory Committee Act after consultation with the Committee Management Secretariat, General Services Administration.

FOR FURTHER INFORMATION CONTACT: Andrew L. Bates, Office of the Secretary, U.S. Nuclear Regulatory Commission, Washington, DC 20555; Telephone: 301-504-1963.

Dated: September 25, 2003.
Andrew L. Bates,
Advisory Committee Management Officer.

[FR Doc. 03-24852 Filed 9-30-03; 8:45 am]

BILLING CODE 7590-01-P